ENVIRONMENTAL PROTECTION AGENCY

[EPA-New England Region I—EPA-R01-OW-2008-0921; FRL-8760-2]

Massachusetts Marine Sanitation Device Standard—Receipt of Petition

AGENCY: Environmental Protection Agency (EPA).

ACTION: Notice—receipt of petition.

SUMMARY: Notice is hereby given that a petition has been received from the Commonwealth of Massachusetts requesting a determination by the Regional Administrator, U. S. Environmental Protection Agency, that adequate facilities for the safe and sanitary removal and treatment of sewage from all vessels are reasonably available for the waters of Revere, Saugus, Lynn, Nahant, and Swampscott.

DATES: Comments must be submitted by February 4, 2009.

ADDRESSES: Submit your comments, identified by Docket ID No. EPA-R01-OW-2008-0921, by one of the following methods:

• www.regulations.gov: Follow the on-line instructions for submitting comments.

• E-mail: rodney.ann@epa.gov.

• Fax: (617) 918-0538.

Mail and hand delivery: U. S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2008-0921. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copy-righted material, will be publicly available only in hard copy. Publicly available docket materials are available either electronically in www.regulations.gov or in hard copy at the U. S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the Commonwealth of Massachusetts requesting a determination by the Regional Administrator, U. S. Environmental Protection Agency, pursuant to Section 312(f)(3) of Public Law 92-500 as amended by Public Law 95-217 and Public Law 100-4, that adequate facilities for the safe and sanitary removal and treatment of sewage from all vessels are reasonably available for the communities of Revere, Saugus, Lynn, Nahant, and Swampscott.

The proposed No Discharge Area for Revere, Saugus, Lynn, Nahant, and Swampscott are:

Waterbody/general area | Latitude | Longitude
From the Revere and Winthrop municipal boundary (northern edge of the Boston Harbor NDA) | 42°23′30″ N | 70°58′50″ W
North along the Revere and Winthrop municipal boundary (northern edge of the Boston Harbor NDA) | 42°24′28″ N | 70°57′33″ W
Arc south along the Winthrop and Nahant municipal boundary | 42°23′13″ N | 70°55′28″ W
Arc east along the Winthrop and Nahant municipal boundary | 42°23′04″ N | 70°54′04″ W
Arc northeast along the Winthrop and Nahant municipal boundary | 42°23′32″ N | 70°51′28″ W
North to the Marblehead/Swampscott town line (southern edge of the Salem Sound NDA) | 42°26′33″ N | 70°49′05″ W
West along the Marblehead/Swampscott town line (southern edge of the Salem Sound NDA) | 42°28′43″ N | 70°52′45″ W
Inland on the Pines River, Rt. 107 Bridge | 42°25′51.93″ N | 70°59′50.28″ W
Inland on the Saugus River, Lincoln Ave. Bridge | 42°27′34.7″ N | 70°59′20.6″ W

The proposed NDA includes the Commonwealth and municipal waters of Revere, Saugus, Lynn, Nahant, and Swampscott.

There are marinas, yacht clubs and public landings/piers in the proposed area with a combination of mooring fields and dock space for the recreational and commercial vessels. Massachusetts has certified that there are two pumpout facilities within the proposed area available to the boating public. The facilities are connected to the municipal sewage system. A list of the facilities, phone numbers, locations, and hours of operation is provided at the end of this petition.

Massachusetts has provided documentation indicating that the total vessel population is estimated to be 1222 in the proposed area. It is estimated that 660 of the total vessel population may have a Marine Sanitation Device (MSD) of some type.

The proposed area contains the state recognized Rumney Marshes Area of Critical Environmental Concern (ACEC). The ACEC and many other areas of the Lower North Shore contain important salt marsh (approximately 2,274 acres), eelgrass and estuarine habitat that is utilized by migratory and native birds such as the snowy egrets, great blue heron, terns, glossy ibis, buffleheads, black ducks, snowy owls, sandpipers, and plovers. Fish such as alewife, blueback herring, rainbow smelt, American eel, striped bass, and several others migrate and/or live part of their lives within the Lower North Shore. Shellfish inhabitants include ribbed mussels, soft-shell clams, and razor clams.

The Northeastern University Marine Science Center is located in Nahant and requires clean waters for the study of the local coastal ecology and for its seawater intakes for its indoor experiments. There are numerous beaches, marinas, boat launches and shellfish harvesting areas, including 230 acres of clam flats, within the proposed area. This area is also a popular destination for recreational and commercial boating, sailboat racing, windsurfing, swimming, and recreational and commercial fishing. Due to its natural environmental diversity, economic value, and recreational value the Lower North Shore would benefit from a No Discharge Area.

Pumpout Facilities Within Proposed No Discharge Areas
Name | Location | Contact info. | Hours | Mean low water depth
REVERE, SAUGUS, LYNN, NAHANT, AND SWAMPSCOTT
Seaport Landing Marina | Lynn Harbor | 781-592-5821; VHF 9,13,16 | 8am-7pm April 15-Nov. 1 | 20 ft.
Revere Harbormaster | Revere | 207-967-2511, VHF 9 | On Call | NA

Dated: December 19, 2008.
Robert W. Varney,
Regional Administrator, New England Region.

[FR Doc. E8-31300 Filed 1-2-09; 8:45 am]

BILLING CODE 6560-50-P